DEPARTMENT OF THE INTERIOR

National Park Service

Notice of Extension of Comment Period on Draft Fee Schedules and Guidance for Commercial Filming in Compliance With Public Law 106-206 To Apply in All Units of the National Park Service

AGENCY: National Park Service, Interior.

ACTION: Public notice.

SUMMARY: At the request of segments of the filming community for more time to prepare comments, the National Park Service is extending the deadline for comments on the Public Notice Request for Comments on the draft fee schedules associated with Filming and Photography Location Fees published in the Federal Register on December 14, 2000, (65 FR 78186). The original notice established February 12, 2001, as the public comment deadline. That ending date for which comments will be accepted is now extended to March 2, 2001.

ADDRESSES: Comments should be addressed to: Dick Young, Special Park Uses Program Manager, C/O Colonial NHP, P. O. Box 210, Yorktown, VA 23690, or via email at: Dick_S._Young@nps.gov.

FOR FURTHER INFORMATION CONTACT: Dick Young at (757) 898-7846, or (757) 898-2426.

Dated: February 16, 2001.
Dennis Burnett,
Acting Chief, Ranger Activities Division.

[FR Doc. 01-4556 Filed 2-23-01; 8:45 am]

BILLING CODE 4310-70-P